ENVIRONMENTAL PROTECTION AGENCY

[EPA-HQ-OECA-2013-0350; FRL-10013-13-OMS]

Information Collection Request Submitted to OMB for Review and Approval; Comment Request; The Consolidated Air Rule (CAR) for the Synthetic Organic Chemical Manufacturing Industry (SOCMI) (Renewal)

AGENCY: Environmental Protection Agency (EPA).

ACTION: Notice.

SUMMARY: The Environmental Protection Agency (EPA) has submitted an information collection request (ICR), The Consolidated Air Rule (CAR) for the Synthetic Organic Chemical Manufacturing Industry (SOCMI) (EPA ICR Number 1854.11, OMB Control Number 2060-0443), to the Office of Management and Budget (OMB) for review and approval in accordance with the Paperwork Reduction Act. This is a proposed extension of the ICR, which is currently approved through September 30, 2020. Public comments were previously requested via the Federal Register on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before August 31, 2020.

ADDRESSES: Submit your comments to EPA, referencing Docket ID No. EPA-HQ-OECA-2013-0350, online using www.regulations.gov (our preferred method), docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The synthetic organic chemical manufacturing industry (SOCMI) is regulated by both New Source Performance Standards (NSPS) and National Emission Standards for Hazardous Air Pollutants (NESHAP) standards. The affected entities are subject to the General Provisions of the NSPS (40 CFR part 60, subpart A), and any changes or additions to the Provisions specified at 40 CFR part 60, subparts Ka, Kb, VV, VVa, DDD, III, NNN and RRR. The affected entities are also subject to the General Provisions of the NESHAP at 40 CFR part 63, subpart A, and any changes, or additions to the Provisions specified at 40 CFR part 63, subparts BB, Y, V, F, G, H and I. As an alternative, SOCMI sources may choose to comply with the above standards under the consolidated air rule (CAR) at 40 CFR part 65 as promulgated December 14, 2000. Synthetic organic chemical manufacturing facilities subject to NSPS requirements must notify EPA of construction, modification, startups, shutdowns, date and results of initial performance test and excess emissions. Semiannual reports are also required. Synthetic organic chemical manufacturing facilities subject to NESHAP requirements must submit one-time only reports of any physical or operational changes and the results of initial performance tests. Owners or operators are also required to maintain records of the occurrence and duration of any startup, shutdown, or malfunction in the operation of an affected facility, or any period during which the monitoring system is inoperative. Periodic reports are also required semiannually at a minimum. These reports are used by EPA to determine compliance with these standards.

Form Numbers: None.

Respondents/affected entities: Synthetic organic chemical manufacturing facilities.

Respondent's obligation to respond: Mandatory (40 CFR part 65).

Estimated number of respondents: 1,356 (total).

Frequency of response: Initially, occasionally, semiannually and annually.

Total estimated burden: 1,100,000 hours (per year). Burden is defined at 5 CFR 1320.3(b).

Total estimated cost: $192,000,000 (per year), which includes $64,000,000 in annualized capital/startup and/or operation & maintenance costs.

Changes in the Estimates: There is a decrease of 1,109,999 hours in the total estimated respondent burden compared with the ICR currently approved by OMB. This decrease is not due to any program changes. The decrease is due to a reduction in the numbers of new and existing respondents for many of the Subparts. These estimates reflect a significant decrease in the number of respondents for the referencing subparts and the CAR from the prior ICR, which listed approximately 5,198 respondents. These estimates are based on the EPA's recent reevaluation of the source category inventories for the referencing subparts 40 CFR part 60, subparts Ka, Kb, VV, VVa, DDD, III, NNN, and RRR, and 40 CFR part 63, subparts F, G, H, and I.

Courtney Kerwin,
Director, Regulatory Support Division.

[FR Doc. 2020-16577 Filed 7-30-20; 8:45 am]

BILLING CODE 6560-50-P